DEPARTMENT OF TRANSPORTATION

Federal Aviation Administration

14 CFR Part 23

[Docket No. CE266; Special Conditions No. 23-206-SC]

Special Conditions: Malibu Power & Propeller Int'l, LLC, Piper Models PA-46-310P and PA-46-350P; Installation of a Full Authority Digital Engine Control (FADEC) Engine

AGENCY: Federal Aviation Administration (FAA), DOT.

ACTION: Final special conditions; request for comments.

SUMMARY: These special conditions are issued for the Malibu Power & Propeller Int'l, LLC modified Piper Model PA-46-310P and PA-46-350P airplanes. The airplanes, as modified by Malibu Power & Propeller Int'l, LLC, will have a novel or unusual design feature(s) associated with the installation of a full authority digital engine control (FADEC) engine. The applicable airworthiness regulations do not contain adequate or appropriate safety standards for this design feature. These special conditions contain the additional safety standards that the Administrator considers necessary to establish a level of safety equivalent to that established by the existing airworthiness standards.

DATES: The effective date of these special conditions is September 5, 2007. We must receive your comments by October 12, 2007.

ADDRESSES: Mail two copies of your comments to: Federal Aviation Administration, Regional Counsel, ACE-7, Attn: Rules Docket No. CE266, 901 Locust, Kansas City, MO 64106. You may deliver two copies to the Regional Counsel at the above address. Mark your comments: Docket No. CE266. You may inspect comments in the Rules Docket weekdays, except Federal holidays, between 7:30 a.m. and 4 p.m.

FOR FURTHER INFORMATION CONTACT: Peter L. Rouse, Federal Aviation Administration, Small Airplane Directorate, Aircraft Certification Service, 901 Locust, Room 301, Kansas City, MO 64106; telephone (816) 329-4135; facsimile (816) 329-4090.

SUPPLEMENTARY INFORMATION: The FAA has determined that notice and opportunity for prior public comment hereon are impracticable because these procedures would significantly delay issuance of the approval design and thus delivery of the affected aircraft. In addition, the substance of these special conditions has been subject to the public comment process in several prior instances with no substantive comments received. The FAA therefore finds that good cause exists for making these special conditions effective upon issuance.

Comments Invited

We invite interested people to take part in this rulemaking by sending written comments, data, or views. The most helpful comments reference a specific portion of the special conditions, explain the reason for any recommended change, and include supporting data. We ask that you send us two copies of written comments.

We will file in the docket all comments we receive, as well as a report summarizing each substantive public contact with FAA personnel about these special conditions. You can inspect the docket before and after the comment closing date. If you wish to review the docket in person, go to the address in the ADDRESSES section of this preamble between 7:30 a.m. and 4 p.m., Monday through Friday, except Federal holidays.

We will consider all comments we receive by the closing date for comments. We will consider comments filed late if it is possible to do so without incurring expense or delay. We may change these special conditions based on the comments we receive.

If you want us to let you know we received your comments on these special conditions, send us a pre-addressed, stamped postcard on which the docket number appears. We will stamp the date on the postcard and mail it back to you.

Background

On November 11, 2003, Malibu Power & Propeller Int'l, LLC applied for a supplemental type certificate for the Piper Models PA-46-310P and PA-46-350P to install a full authority digital engine control in the Piper Models PA-46-310P and PA-46-350P. The Piper Models PA-46-310P and PA-46-350P, currently approved under Type Certificate No. A25SO, are six-place, pressurized, turbocharged, single-engine airplanes. Malibu Power & Propeller Int'l, LLC plans to use an electronic engine control instead of a traditional mechanical control system on the Piper Model PA-46-310P (Malibu) and PA-46-350P (Malibu Mirage) airplane. The electronic engine control system performs critical functions, such as the control of the ignition and fuel injection functions, throughout the operational envelope.

Type Certification Basis

Under the provisions of § 21.101, Malibu Power & Propeller Int'l, LLC must show that the Piper Models PA-46-310P and PA-46-350P, as changed, continue to meet the applicable provisions of the regulations incorporated by reference in Type Certificate No. A25SO, or the applicable regulations in effect on the date of application for the change. The regulations incorporated by reference in the type certificate are commonly referred to as the “original type certification basis.” The regulations incorporated by reference in Type Certificate No. A25SO are as follows:

PA-46-310P and PA-46-350P:

14 CFR part 23, effective February 1, 1965, as amended by Amendment 23-25, effective March 6, 1980; 14 CFR part 25, § 25.783(e) as amended by Amendment 25-54, effective October 14, 1980; § 25.831(c) and (d) as amended by Amendment 25-41, effective September 1, 1977; and 14 CFR part 36, Appendix F through Amendment 36-15, effective May 6, 1988, when equipped with 2 blade propeller or part 36, Appendix G through Amendment 36-16, effective December 18, 1988, when equipped with optional 3 blade propeller.

No equivalent safety findings.

Special Conditions No. 23-ACE-53, Docket No. 082CE.

For PA-46-350P aircraft equipped with Piper factory installed Avidyne Entegra system (See Piper Report VB-1954), the additional certification basis for installation specific items only is: 14 CFR part 23, § 23.1529 as amended by Amendment 23-26, effective 14 October 1980; § 23.1523 as amended by Amendment 23-34, effective 17 February 1987; §§ 23.1322, 23.1331, 23.1357(a)(2), (b), (c), and (d) as amended by Amendment 23-43, effective 10 May 1993; §§ 23.305, 23.613, 23.773(a)(2), 23.1525, 23.1549(a) as amended by Amendment 23-45, effective 7 September 1993; §§ 23.301, 23.337(a)(1) and (b)(1), 23.341(a), 23.473, 23.561(b)(3) and (e), 23.571(a), 23.607, 23.611, as amended by Amendment 23-48, effective 11 March 1996; § 23.1303(a), (b), and (f), §§ 23.1307, 23.1309(a), (a)(1), (a)(2), (b), and (e), 23.1311(a)(2), (a)(3), (a)(4), (a)(5), (a)(6), (a)(7), (b), and (c), 23.1321(a), (c), (d), and (e), 23.1323(a) and (c), 23.1329, 23.1351(a)(1), (a)(2)(i), (b)(2), and (b)(3), 23.1353(d) and (h), 23.1359(c), 23.1365(a), (b), (d), (e), and (f), 23.1431(a) and (b) as amended by Amendment 23-49, effective 11 March 1996; § 23.1325(a), (b)(1), (b)(2)(ii), (b)(3), (c), and (e), 23.1543(b) and (c), 23.1545(a), (b)(3), (b)(4), and (c), 23.1555 (a) and (b), 23.1563, 23.1581(a), (b)(2), (b)(3), and (f), 23.1583(m), 23.1585(j) as amended by Amendment 23-50, effective 11 March 1996; § 23.777(a) and (b), 23.1337 as amended by Amendment 23-51, effective 11 March 1996; § 23.1305(a)(1), (a)(2), (a)(3), (b)(2), (b)(3), (b)(4), (b)(5), (b)(6)(i) as amended by Amendment 23-52, effective 25 July 1996; Special Condition for HIRF (Docket No. CE215, Special Condition 23-154-SC), January 7, 2005.

Eligible Serial Numbers: 4636375 and up.

Discussion

If the Administrator finds that the applicable airworthiness regulations (i.e., 14 CFR part 23, § 23.1309) do not contain adequate or appropriate safety standards for the Piper Models PA-46-310P and PA-46-350P because of a novel or unusual design feature, special conditions are prescribed under the provisions of § 21.16.

In addition to the applicable airworthiness regulations and special conditions, the Piper Models PA-46-310P and PA-46-350P must comply with the fuel vent and exhaust emission requirements of 14 CFR part 34 and the noise certification requirements of 14 CFR part 36; and the FAA must issue a finding of regulatory adequacy under § 611 of Public Law 92-574, the “Noise Control Act of 1972.”

The FAA issues special conditions, as appropriate, as defined in § 11.19, as required by § 11.38 and they become part of the type certification basis under § 21.101.

The Malibu Power & Propeller Int'l, LLC modified Piper Model PA-46-310P and PA-46-350P airplanes will incorporate a novel or unusual design feature, an engine that includes a digital electronic engine control system with FADEC capability. The control system will be certificated as part of the engine. However, the installation of an engine with an electronic control system requires evaluation due to the possible effects on or by other airplane systems (e.g., radio interference with other airplane electronic systems, shared engine and airplane power sources). The regulatory requirements in 14 CFR part 23 for evaluating the installation of complex systems, including electronic systems, are contained in § 23.1309. However, when § 23.1309 was developed, the use of electronic control systems for engines was not envisioned; therefore, the § 23.1309 requirements were not applicable to systems certificated as part of the engine (reference § 23.1309(f)(1)).

Electronic control systems often require inputs from airplane data and power sources and outputs to other airplane systems (e.g., automated cockpit powerplant controls such as mixture setting). The parts of the system that are not certificated with the engine could be evaluated using the criteria of § 23.1309. However, the integral nature of systems such as these makes it unfeasible to evaluate the airplane portion of the system without including the engine portion of the system. Section 23.1309(f)(1) prevents complete evaluation of the installed airplane system since evaluation of the engine system's effects is not required.

Therefore, special conditions are proposed for the Malibu Power & Propeller Int'l, LLC modified Piper Model PA-46-310P and PA-46-350P airplanes to evaluate the installation of the electronic engine control system for compliance with the requirements of § 23.1309(a) through (e) at Amendment 23-49.

Novel or Unusual Design Features

The Malibu Power & Propeller Int'l, LLC modified Piper Models PA-46-310P and PA-46-350P will incorporate the following novel or unusual design features: The Malibu Power & Propeller Int'l, LLC modified Piper Models PA-46-310P and PA-46-350P will incorporate a digital electronic engine control system.

Applicability

Special conditions are initially applicable to the model for which they are issued. Should the applicant apply for a supplemental type certificate to modify any other model included on the same type certificate to incorporate the same novel or unusual design feature, the special conditions would also apply to the other model under the provisions of § 21.101(a)(1).

Conclusion

This action affects only certain novel or unusual design features on one model of airplane. It is not a rule of general applicability and affects only the applicant who applied to the FAA for approval of these features on the airplane.

The substance of these special conditions has been subjected to the notice and comment period in several prior instances and has been derived without substantive change from those previously issued. It is unlikely that prior public comment would result in a significant change from the substance contained herein. Therefore, because a delay would significantly affect the certification of the airplane, which is imminent, the FAA has determined that prior public notice and comment are unnecessary and impracticable, and good cause exists for adopting these special conditions upon issuance. The FAA is requesting comments to allow interested persons to submit views that may not have been submitted in response to the prior opportunities for comment described above.

List of Subjects in 14 CFR Part 23

Aircraft, Aviation safety, Signs and symbols.

Citation

The authority citation for these special conditions is as follows:

Authority: 49 U.S.C. 106(g), 40113 and 44701; 14 CFR 21.16 and 21.101; and 14 CFR 11.38 and 11.19.

The Special Conditions

Accordingly, pursuant to the authority delegated to me by the Administrator, the following special conditions are issued as part of the type certification basis for the Malibu Power & Propeller Int'l, LLC modified Piper Model PA-46-310P and PA-46-350P airplanes.

The installation of the electronic engine control system must comply with the requirements of § 23.1309(a) through (e) at Amendment 23-49. The intent of this requirement is not to reevaluate the inherent hardware reliability of the control itself, but rather determine the effects, including environmental effects addressed in § 23.1309(e), on the airplane systems and engine control system when installing the control on the airplane. When appropriate, engine certification data may be used when showing compliance with this requirement; however, the effects of the installation on this data must be addressed.

Issued in Kansas City, Missouri on September 5, 2007.
Kim Smith,
Manager, Small Airplane Directorate, Aircraft Certification Service.

[FR Doc. E7-18013 Filed 9-11-07; 8:45 am]

BILLING CODE 4910-13-P